NATIONAL SCIENCE FOUNDATION

National Artificial Intelligence Research Resource Task Force Notice of Meeting

In accordance with the Federal Advisory Committee Act (Pub. L. 92-463, as amended), the National Science Foundation (NSF) announces the following meeting:

Name and Committee Code: National Artificial Intelligence Research Resource Task Force (84629).

Date and Time: July 28, 2021; 1:00 p.m. to 5:00 p.m. EDT.

Place: NSF, 2415 Eisenhower Avenue, Alexandria, VA 22314. Virtual meeting attendance only; to attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this inaugural meeting, the Task Force will discuss its charter and goals; key characteristics for the National Artificial Intelligence Research Resource; the results of pilot efforts to enhance access to cloud computing resources for federally-funded researchers; and review the work plan going forward.

Dated: June 21.2021.
Crystal Robinson,
Committee Management Officer.

[FR Doc. 2021-13332 Filed 6-23-21; 8:45 am]

BILLING CODE 7555-01-P